DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of December, 2002.

In order for an affirmative determination to be made and a certification of eligibility to apply for worker adjustment assistance to be issued, each of the group eligibility requirements of Section 222 of the Act must be met.

(1) That a significant number or proportion of the workers in the workers' firm, or an appropriate subdivision thereof, have become totally or partially separated, or are threatened to become totally or partially separated; and

(2) That sales or production, or both, of the firm or sub-division have decreased absolutely, and

(3) that increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

TA-W-41,888 & A; Jasper Cabinet Co., Jasper, IN and Ferdinand, IN

In the following cases, the investigation revealed that the criteria for eligibility have not been met for the reasons specified.

Increased imports did not contribute importantly to worker separations at the firm.

TA-W-41,428; Zenith Dye and Finishing Corp., Paterson, NJ

The investigation revealed that criterion (a)(2)(A) (1.C) (Increased imports) and (a)(2)(B)(II. C.1) (Has shifted production to a country not under the free trade agreement with the US) have not been met.

TA-W-50,060; GKN Sinter Metals, Gallipolis, OH

The investigation revealed that criterion (a)(2)(A) (I.C.) (Increased imports) and (a) (2)(B) (II.B) (No shift in production to a foreign country) have not been met.

TA-W-50,142; Midas International Corp., Muffler Corp. of American Div., Hartford, WI

TA-W-50,013; Georgia-Pacific Corp., OSB Plant, Baileyville, ME

The workers firm does not produce an article as required for certification under Section 222 of the Trade Act of 1974.

TA-W-50,211; Trigon Engineering Co., Little Rock, AR

TA-W-42,012; ACS, Inc., Phoenix, AZ

The investigation revealed that criteria (2) has not been met. The workers' firm (or subdivision) is not a supplier or downstream producer for trade-affected companies.

TA-W-50,262; Engineered Polymers Corp., a Subsidiary of GBR Holding Corp., Formerly a Subsidiary of Cookson Investments, a Subsidiary of Cookson Group PLC, Mora, MN

Affirmative Determinations for Worker Adjustment Assistance

The following certifications have been issued; the date following the company name and location of each determination references the impact date for all workers of such determination.

TA-W-42,308; Shipping Systems, Inc., a Subsidiary of Bancroft Bag, Crossett, AR: October 2, 2001.

TA-W-42,200; Multi-Tool, Inc., Saegertown, PA: August 27, 2001.

TA-W-41,840; Corbin, LTD, Huntington, WV: June 21, 2001.

The following certifications have been issued. The requirements of (a)(2)(A) (increased imports) of Section 222 have been met.

TA-W-50,178; Evanite Fiber Corp., a Subsidiary of Hollingsworth & Vose Co., Hardboard Div., Corvallis, OR: November 2, 2001.

TA-W-50,089; E-Mu Systems, Scots Valley, CA: November 5, 2001.

TA-W-50,144; Saint-Gobain Abrasives, Flowery Branch, GA: November 12, 2001.

TA-W-50,295; Vaughan Furniture Co., Galax, VA: November 6, 2001.

TA-W-50,146; Tetra Tool Company, Erie, PA: November 12, 2001.

TA-W-50,400; Staktek Group L.P., Austin, TX: December 13, 2001.

TA-W-50,214; Arvin/Meritor, Oshkosh Facility, Oshkosh, WI: November 27, 2001.

TA-W-50,195; Zsml Corp., Pacoima, CA: November 14, 2001.

TA-W-50,176; Idaho Circuit Technology Corp., Glenns Ferry, ID: November 22, 2001.

TA-W-50,174; Burgess Norton Manufacturing Co., Div. of Amsted Industries, Muskegon, MI: November 9, 2001.

TA-W-50,145; Ardco Holdings, Inc., Formerly Anthony International, Scottsboro, AL: November 19, 2001.

The following certifications have been issued. The requirements of (a)(2)(B) (shift in production) of Section 222 have been met.

TA-W-50,277; Heico-Ohmite, LLC, Skokie, IL: December 3, 2001.

TA-W-50,113; Fleming Lumber Co., Inc., Milligan, FL: November 18, 2001.

TA-W-50,140; Basler Electric Co., Corning, AR: November 18, 2001.

TA-W-50,301; DeLong Sportswear, Inc., Quanah, TX: December 11, 2001.

The following certification has been issued. The requirement of upstream supplier to a trade certified primary firm as been met.

TA-W-50,071; Graphic Metals, Inc., Bay City, MI: November 11, 2001.

Also, pursuant to Title V of the North American Free Trade Agreement Implementation Act (Pub. L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of December, 2002.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

None

The investigation revealed that criteria (1) has not been met. A significant number or proportion of the workers in such workers' firm or an appropriate subdivision (including workers in any agricultural firm or appropriate subdivision thereof) did not become totally or partially separated from employment as required for certification.

NAFTA-TAA-06650; State of Alaska Commercial Fisheries Entry Commission Permit #595360, Dillingham, AK

The investigation revealed that criteria (2) has not been met. Sales or production, or both, did not decline during the relevant period as required for certification.

NAFTA-TAA-07214; Permit #60370A, Egegik, AK

Affirmative Determinations NAFTA-TAA

NAFTA-TAA-06438 & A; Corbin, LTD, Ashland, KY and Huntington, WV: August 1, 2001.

I hereby certify that the aforementioned determinations were issued during the months of December, 2002. Copies of these determinations are available for inspection in Room C-5311, U.S. Department of Labor, 200 Constitution Avenue, NW, Washington, DC 20210 during normal business hours or will be mailed to persons who write to the above address.

Dated: January 6, 2003.
Edward A. Tomchick
Director, Division of Trade Adjustment Assistance.

[FR Doc. 03-804 Filed 1-14-03; 8:45 am]

BILLING CODE 4510-30-P